DEPARTMENT OF COMMERCE

International Trade Administration

[A-570-601]

Notice of Court Decision: Tapered Roller Bearings and Parts Thereof from the People's Republic of China

AGENCY: Import Administration, International Trade Administration, Department of Commerce.

SUMMARY: On March 20, 2002, the United States Court of International Trade issued a final judgment with respect to the litigation in The Timken Company v. United States, Ct. No. 97-12-02156, Slip Op. 02-30. This case arises from the Department of Commerce's Final Results of Antidumping Administrative Review of Tapered Roller Bearings and Parts Thereof, from the People's Republic of China, 62 FR 61276 (November 17, 1997). The administrative review period was June 1, 1995, through May 31, 1996. The final judgment by the court in this case was not in harmony with the Department of Commerce's November, 1997 final results of review.

EFFECTIVE DATE: The effective date of this notice is April 1, 2002, which is 10 days from the date on which the court issued its judgment.

FOR FURTHER INFORMATION CONTACT: George Callen at (202) 482-0180 or Richard Rimlinger at (202) 482-4477, Import Administration, International Trade Administration, U.S. Department. of Commerce, 14th Street and Constitution Avenue, N.W., Washington, D.C. 20230.

SUPPLEMENTARY INFORMATION: The decision of the Court of International Trade (“CIT”) in Slip Op. 02-30 is that Court's final decision concerning the calculation of various elements of constructed value. More specifically, the CIT ordered the Department of Commerce to make the following changes to its original calculations: 1) determine direct labor costs without relying on labor hours; 2) exclude the “purchases of traded goods” from its calculation of the cost of manufacturing; and 3) adjust United States price by recalculating marine insurance pursuant to a value-based methodology.

In its decision in Timken Co. v. United States, 893 F.2d 337, 341 (Fed.Cir.1990) (“Timken”), the United States Court of Appeals for the Federal Circuit held that, pursuant to 19 USC 1516a(e), the Department must publish a notice of a court decision which is not “in harmony” with a Department determination and must suspend liquidation of entries pending a “conclusive” court decision. The CIT's decision in Slip Op.02-30 on March 20, 2002, constitutes a final decision of that court which is “not in harmony” with the Department's final results of administrative review. We are publishing this notice in fulfillment of the publication requirements of Timken.

Accordingly, the Department will continue the suspension of liquidation of the subject merchandise pending the expiration of the period of appeal or, if appealed, upon a “conclusive” court decision.

Dated: March 26, 2002
Faryar Shirzad,
Assistant Secretary for Import Administration.

[FR Doc. 02-7951 Filed 4-1-02; 8:45 am]

BILLING CODE 3510-DS-S